DEPARTMENT OF AGRICULTURE

Forest Service

Carson National Forest, New Mexico, Proposed 115kV Transmission Line on the Tres Piedras Ranger District

AGENCY: Forest Service, USDA.

ACTION: Revised notice of intent to prepare an environmental impact statement.

SUMMARY: Based upon a request made by Kit Carson Electric Cooperative (KCEC), the Carson National Forest is preparing an environmental impact statement (EIS) to analyze the effects of a proposal to authorize KCEC to construct, operate and maintain a new 115 kV electric transmission line and fiber optic system on National Forest System lands from the existing Ojo to Taos 115 kV line to Ojo Caliente, New Mexico. A notice of intent (NOI) to prepare an EIS was published in the Federal Register on October 12, 2000 (65 FR 60612). This revised notice adds information to the previous NOI and changes the proposed dates for release of the EIS.

DATES: Comments on the proposal were received from August 1999 through February 2001. Issues were identified and alternatives developed to address significant issues. It is estimated that the draft environmental impact statement (DEIS) will be completed and distributed by August 2003. A 45-day comment period will follow. The final environmental impact statement (FEIS) is expected to be released in January 2004.

ADDRESSES: The DEIS will be available upon request from the Carson Forest Supervisor's Office, 208 Cruz Alta Road, Taos, NM 87571, Attn: Power Line Analysis Team. Comments related to the DEIS can be sent to the same address.

FOR FURTHER INFORMATION CONTACT: Ben Kuykendall, Power Line Analysis Team Leader, Carson Forest Supervisor's Office, 208 Cruz Alta Road, Taos, NM 87571, (505) 758-6311.

SUPPLEMENTARY INFORMATION: Purpose and Need for Action: Current power demands exceed the capacity of the existing line, resulting in outages and frequent voltage fluctuations in the communities of Ojo Caliente, El Rito, La Madera, Canon Plaza, Mesa Vista, Petaca, Las Placitas, Servilleta, Vallecitos, Carson and Pilar. These fluctuations can lead to periodic brownouts and “blinks”, resulting in damage to all types of electrical equipment, from appliances to medical support systems. In addition, because the original distribution lines were not designed to carry so much electrical energy through them, an excessive amount of power is lost directly from the lines through the transmission process. This phenomenon is known as line loss and is both wasteful and costly. The expense is generally distributed to all KCEC users.

Proposed Action: In order to provide adequate power for current and future needs, prevent power outages and fluctuations, and reduce line loss costs to all users, the Carson National Forest proposes to authorize Kit Carson Electric Cooperative to construct, operate and maintain a 115 kV transmission line with a fiber optic communication system across National Forest System lands. The proposed line would run 9.4 miles from the existing 115 kV/345 kV transmission line corridor just north of Black Mesa to a proposed substation location north of the Ojo Caliente community, Taos County, New Mexico. The proposed action has several parts, most of which pertain directly to National Forest System lands and for which the USDA Forest Service will make the decision. The proposal also includes activities that pertain to U.S. Department of the Interior, Bureau of Land Management (BLM) administered lands, where the Forest Service has no authority to make decisions. The BLM proposes to authorize KCEC to:

(1) Construct a new substation on lands administered by the BLM 1.5 miles north of Ojo Caliente.

(2) Construct a 115 kV transmission line with 25 kV underbuilt for approximately 2 miles on BLM administered lands.

This proposal should sufficiently serve the power needs of the area for 30 or more years.

Scoping Process: Beginning in the summer of 2000, Carson National Forest analysis team members and KCEC staff participated in numerous meetings and discussions with communities and their representatives, local citizen groups and interested individuals concerning the Ojo Caliente 115 kV transmission line proposal. Various federal, state, county, tribal and local agencies, as well as U.S. congressional representatives, were notified of the proposal and solicited for information and comments. The general public was also informed through a variety of methods and invited to participate and provide comment. Native American tribes were contacted and tribal consultation is ongoing. Discussions with the USDI Fish and Wildlife Service and U.S. Department of Energy began in 1999.

A detailed description of the proposed action, preliminary issues, and how to contact the analysis team for information or comments for the project was distributed by KCEC as a supplement to the April 2000 Enchantment (Vol. 52, Number 54)—a newsletter prepared by electric cooperatives in New Mexico. The Enchantment was mailed to 17,850 KCEC subscribers. Copies were also sent to individuals and groups interested in proposals and activities on the Carson National Forest. Press releases and public service announcements briefly describing the proposal and requesting public feedback were sent to a number of local and regional papers and radio stations from April 14-17, 2000.

Issues: Public comments on the proposal covered a wide variety of topics. These included concerns related to the effects on wildlife, soils and watershed, cultural resources, economics, scenic values, as well as, the use of alternative energy, burial of the line, effects of electromagnetic fields and the need for improved service. The main or “significant issues” were identified and are briefly described:

(1) Proposed powerline would negatively affect scenic and visual values of the area.

(2) Proposed action would create a new utility corridor. Constructing a new line and associated maintenance road could cause unnecessary environmental harm.

(3) Electromagnetic field generated from the proposed transmission line could cause negative impacts on the health of those living in the vicinity of the new line.

Alternatives: The analysis team took the significant issues and developed the following alternatives to the proposed action that will be analyzed in detail in the EIS.

No Action: None of the proposed activities would take place. The National Environmental Policy Act (NEPA) requires this alternative and is the baseline used to evaluate the action alternatives.

Existing Location: This alternative would address the issue of creating a new corridor. It would begin at the 115 kV/345kV lines northeast of Carson in Section 27 and follow the existing 25 kV route along U.S. 285 to the proposed substation north of Ojo Caliente for 15.6 miles. This line would be a combination service—poles would carry the existing 25 kV service underneath the new 115 kV service.

Route 285 P: This alternative was developed in response to the issue of effects on visual/scenic quality. Approximately 12.5 miles long, this alternative would begin at the intersection of Forest Road 285 P and the existing 115kV/345 kV corridor and run along the bottom of a sagebrush swale northwest along 285 P for approximately 3 miles, then west along 285 P to U.S. 285. This route would intersect the existing distribution line where U.S. 285 climbs the Comanche Rim, just south of junction with NM 576. It would run parallel to and .5 miles north of U.S. 285, where it would not be noticeable from the highway. It would intersect with the existing corridor on BLM about a mile north of the proposed substation.

Tres Piedras Connection Option: This option was developed in response to information received during scoping. Currently electrical service is not available for residents along a portion of U.S. 285 between the existing 25 kV corridor and Tres Piedras. This option would allow for a 25 kV (maximum) extension along U.S. 285 just north of the junction with NM 576 to where a 12.5 kV would extend south from Tres Piedras—approximately 9 miles. This option will be analyzed in the EIS and available to the responsible official to add to the proposed action or either of the action alternatives as a part of his decision.

Responsible Official: The Forest Supervisor for the Carson National Forest is the responsible official for making a decision on National Forest System lands. The BLM is a cooperating agency, and a designated responsible official for the BLM will make a decision on actions that would take place on BLM lands. If an alternative is selected that includes private holdings, KCEC Cooperative will negotiate for approval.

Nature of the Decision To Be Made: The Forest Supervisor will decide whether to authorize KCEC to construct a new line as proposed or select an alternative, including taking no action. He will also choose whether to include the Tres Piedras Connection option in his decision. In addition, the responsible official may elect to require certain mitigation measures to minimize environmental impacts.

Lead and Cooperating Agencies: The USDA Forest Service is the lead agency for this environmental analysis. The USDI Bureau of Land Management has jurisdiction for a portion of the proposed action and is a cooperating agency. The BLM has participated as a cooperating agency since the early stages of the NEPA process.

Comment Requested: This revised notice adds information to the previous NOI and changes the proposed dates for release of the EIS. It does not reinitiate scoping.

Early Notice of Importance of Public Participation in Subsequent Environmental Review: A draft environmental impact statement will be prepared for comment. The comment period on the DEIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: June 24, 2003.
Martin D. Chavez, Jr.,
Forest Supervisor, Carson National Forest.

[FR Doc. 03-16405 Filed 6-27-03; 8:45 am]

BILLING CODE 3410-11-P